ENVIRONMENTAL PROTECTION AGENCY

[FRL-8902-4]

Small Drinking Water System Variances and Other Approaches for the Equitable Consideration of Small System Customers Stakeholder Meeting

AGENCY: Environmental Protection Agency (EPA).

ACTION: Notice.

SUMMARY: The U.S. Environmental Protection Agency is giving notice of a public meeting to discuss policies to assure equitable treatment of small drinking water system customers. These policies include small drinking water system variance methodologies and alternative strategies. This meeting is open to the public and will provide a forum for public discussion on potential changes to EPA's existing small drinking water system variance determination methodology as well as to discuss alternative compliance strategies (e.g., capacity development and utilization of provisions of the Drinking Water State Revolving Fund such as disadvantaged community loan subsidies) that could be considered.

DATES: The public meeting will be held on Wednesday, May 20, 2009, from 9 a.m. to 3 p.m. Attendees should register for the meeting by contacting Rebecca Allen of EPA's Office of Ground Water and Drinking Water at (202) 564-4689 or by e-mail at allen.rebeccak@epa.gov no later than May 14, 2009.

ADDRESSES: The meeting will be held at the Washington Plaza Hotel, 10 Thomas Circle, NW., Washington, DC 20005.

FOR FURTHER INFORMATION CONTACT: For administrative or technical meeting information, contact Rebecca Allen, Office of Water, Office of Ground Water and Drinking Water, Standards and Risk Management Division, Targeting and Analysis Branch, U.S. EPA, 1201 Constitution Ave., NW., Washington, DC 20460 at (202) 564-4689 or by e-mail at allen.rebeccak@epa.gov.

SUPPLEMENTARY INFORMATION: Background: The 2010 Budget states that EPA is to “* * * work with State and local governments to address Federal drinking water policy in order to provide equitable consideration of small system customers.” One approach is to revise the Agency's small system variance affordability methodology. Other approaches include capacity development and utilization of provisions of the Drinking Water State Revolving Fund such as disadvantaged community loan subsidies.

The 1996 amendments of the Safe Drinking Water Act provide States the authority to grant variances to small public water systems that cannot afford to comply with a National Primary Drinking Water Standard. More specifically, States may issue such variances if EPA determines that affordable compliance technologies are not available; and EPA determines variance technologies are available that both achieve the maximum reduction that is affordable and are protective of public health. When issued by the State, a small system variance would allow a system to install and maintain a variance technology in lieu of technology that can achieve compliance with the regulation. Variances are not available for microbial contaminants.

EPA's current methodology to determine affordable compliance technologies for small systems compares the current household cost of water plus the estimated additional cost to comply with a new rule to an affordability “threshold” of 2.5 percent of the median household income. This methodology is described in EPA's 1998 Announcement of Small System Compliance Technology Lists for Existing National Primary Drinking Water Regulations and Findings Concerning Variance Technologies (63 FR 42032, August 6, 1998).

EPA is considering revisions to this methodology to provide equitable consideration of small system customers. EPA believes it is important to consider public health and compliance costs. EPA also intends to consider other approaches, such as targeted use of funding to disadvantaged water systems. EPA plans to further consult with the National Drinking Water Advisory Council and to review the many public comments we received on an earlier proposal to revise the existing methodology.

Special Accommodations

For information on access or accommodations for individuals with disabilities, please contact Rebecca Allen at (202) 564-4689 or by e-mail at allen.rebeccak@epa.gov. Please allow at least 10 days prior to the meeting to give EPA time to process your request.

Dated: May 4, 2009.
Cynthia C. Dougherty,
Director, Office of Ground Water and Drinking Water.

[FR Doc. E9-10644 Filed 5-6-09; 8:45 am]

BILLING CODE 6560-50-P